DEPARTMENT OF TRANSPORTATION

Pipeline and Hazardous Materials Safety Administration

Office of Hazardous Materials Safety

AGENCY: Pipeline and Hazardous Materials Safety Administration (PHMSA), DOT.

ACTION: Notice of actions on special permit applications.

SUMMARY: In accordance with the procedures governing the application for, and the processing of, special permits from the Department of Transportation's Hazardous Material Regulations (49 CFR Part 107, Subpart B), notice is hereby given of the actions on special permits applications in (February to February 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on March 19, 2014.
Donald Burger,
Chief, Special Permits and Approvals Branch.

S.P. No. | Applicant | Regulation(s) | Nature of special permit thereof
Modification Special Permit Granted
11947-M | Patts Fabrication, Inc. Midland, TX | 49 CFR 173.202; 173.203; 173.241; 173.242 | To modify the special permit to authorize additional Class 3 and 8 materials.
14232-M | Luxfer Gas Cylinders, Riverside, CA | 49 CFR 173.302a(a), 173.304a(a), and 180.205 | To modify the special permit to authorize a 30 year service life as specified in ISO 11119-2 and update the acceptance criteria.
New Special Permit Granted
15869-N | Mercedes-Benz USA, LLC (MBUSA) Montvale, NJ | 49 CFR 172.102, Special Provision A54 | To authorize the transportation in commerce of lithium batteries exceeding the 35 Kg maximum weight authorized for transportation by cargo air. (mode 4)
15870-N | Ram Systems, Jefferson, OR | 49 CFR 49 CFR Table § 172.101, Column(9B), § 172.204(c)(3), § 173.27(b)(2), § 175.30(a)(1), § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15864-N | Agfa HealthCare Corporation, Greenville, SC | 49 CFR 173.213 | To authorize the transportation of an Environmentally hazardous substance in non-DOT specification packaging. (modes 1, 4)
15881-N | Chart Industries, Inc., Ball Ground, GA | 49 CFR 180.211(c)(2)(i) | To authorize the repair of certain DOT 4L cylinders without requiring pressure testing. (mode 1)
15873-N | JiangXi Oxygen Plant Co., Ltd., Jiangxi Province | 49 CFR 178.274(b) and 178.276(b)(1) | To authorize the manufacture, marking, sale and use of UN portable tanks conforming to portable tank code 150 that have been designed, constructed and stamped in accordance with Section VIII, Division 2 of the ASME Code for the transportation in commerce Division 2.1 and 2.2 materials. (modes 1, 2, 3, 4)
15874-N | Summit Helicopter, Incorporated, Pacoima, CA | 49 CFR 49 CFR Table § 172.101, Column (9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15876-N | JiangXi Oxygen, Plant Co., Ltd., Jiangxi Province | 49 CFR 178.274(b) and 178.276(b)(1) | To authorize the manufacture, marking, sale and use of UN portable tanks conforming to portable tank code T50 that have been designed, constructed and stamped in accordance with Section VIII, Division 1 of the ASME Code with a design margin of 3.5:1 for the transportation in commerce Division 2.1 and 2.2 materials. (modes 1, 2, 3, 4)
15987-N | TG Missouri Corp., Perryville, MO | 49 CFR 173.301(a)(1), 173.302(a)(1), 178.65(f)(2), and 178.65(i)(3) | To authorize the manufacture, mark, sale and use of non-DOT specification cylinders for use as components of automotive vehicle safety systems. (modes 1, 2, 3, 4, 5)
16002-N | Sky Aviation, Inc., Worland, WY | 49 CFR 175.9(a) | To authorize the transportation in commerce of certain hazardous materials by external load. (mode 4)
Emergency Special Permit Granted
15652-M | Vertical Solutions LLC, Valdez, AK | 49 CFR 172.101 Column (9B), 172.204(c)(3), 173.27(6)(2), 172.200, 172.300, Part 173, 175.30(a)(1) and 175.75 | To authorize additional Class 1.1 and 1.4 explosives to be transported to remote areas for avalanche relief. (mode 4)
16090-N | Arkema, Inc., King of Prussia, PA | 49 CFR 173.227 | To authorize the transportation in commerce of a TIH hazmat in non-approved spec packages overpacked in 85 gallon steel drums. (mode 1)
16083-N | Linde Gas, North America LLC, NEW PROVIDENCE, NJ | 49 CFR 171.23(a)(1) and (3) | To authorize the transportation in commerce of certain non-DOT specification foreign cylinders containing Dichlorosilane by motor vehicle and cargo vessel. (modes 1, 3)
16077-N | SDV Logistique, Internationale, Colomiers | 49 CFR 49 CFR Parts 106, 107 and 171-180 | The purpose of this letter is to request a Special Permit and/or Competent Authority Approval only for transporting the forbidden HazMat—the Anhydrous Ammonia (UN 1005) which is contained in the heat pipes of the satellite as per description detailed in the packing approval certificate no. 13-020 enclosed. This document was granted by French competent authority the DGAC. This approval issued by the French Government authorize the carriage by air of the Anhydrous Ammonia in the heatpipes within the satellite, as well as the other dangerous goods in the approved packaging and quantities that are listed on the Shippers Declaration for Dangerous Goods. We confirm that all other items are not forbidden and are within quantity limits as per IATA dangerous goods regulations. (mode 4)
Emergency Special Permit Withdrawn
16085-N | Brenntag, Mid-South, Inc., Henderson, KY | 49 CFR 173.3(e)(2) | To authorize a new adjustable bar assembly kit for chlorine cylinders.
Denied
15961-N | Request by Arktis Radiation Detectors Ltd. Malvern, PA February 26, 2014. To authorize the transportation in commerce of radiation detectors containing a Division 2.2 material that exceed the pressure authorized.

[FR Doc. 2014-06865 Filed 3-28-14; 8:45 am]

BILLING CODE 4909-60-P